DEPARTMENT OF DEFENSE

Office of the Secretary

[Docket ID: DoD-2021-HA-0086]

Submission for OMB Review; Comment Request

AGENCY: The Office of the Assistant Secretary of Defense for Health Affairs, Department of Defense (DoD).

ACTION: 30-Day information collection notice.

SUMMARY: The DoD has submitted to OMB for clearance the following proposal for collection of information under the provisions of the Paperwork Reduction Act.

DATES: Consideration will be given to all comments received by December 27, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION:

Title; Associated Form; and OMB Number: Department of Defense Patient Safety Culture Survey; OMB Control Number 0720-0034.

Type of Request: Revision.

Number of Respondents: 7,820.

Responses per Respondent: 1.

Annual Responses: 7,820.

Average Burden per Response: 0.16 hours.

Annual Burden Hours: 1,251.

Needs and Uses: The 2001 National Defense Authorization Act contains specific sections addressing patient safety in military and veterans' health care systems. This legislation states that the Secretary of Defense shall establish a patient care error reporting and management system to study occurrences of errors in patient care and that one purpose of the system should be to “identify systemic factors that are associated with such occurrences” and “to provide for action to be taken to correct the identified systemic factors” (Sec. 754, items b2 and b3). In addition, the legislation states that the Secretary shall “continue research and development investments to improve communication, coordination, and team work in the provision of health care” (Sec. 754, item d4).

In its ongoing response to this legislation and in support of its mission to “promote a culture of safety to eliminate preventable patient harm by engaging, educating and equipping patient-care teams to institutionalize evidence-based safe practices,” the DoD Patient Safety Program plans to field the DoD Patient Safety Culture Survey. The Culture Survey is based on the Department of Health and Human Services' Agency for Healthcare Research and Quality's validated survey instrument. The survey obtains Military Health System staff opinions on patient safety issues such as teamwork, communications, medical error occurrence and response, error reporting, and overall perceptions of patient safety.

Affected Public: Federal Government; individuals or households.

Frequency: As required.

Respondent's Obligation: Voluntary.

OMB Desk Officer: Ms. Julie Wise.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: November 22, 2021.
Aaron T. Siegel,
Alternate OSD Federal Register, Liaison Officer, Department of Defense.

[FR Doc. 2021-25829 Filed 11-24-21; 8:45 am]

BILLING CODE 5001-06-P